DEPARTMENT OF AGRICULTURE

Agricultural Marketing Service

[Docket Number FV-05-305]

United States Standards for Grades of Globe Artichokes

AGENCY: Agricultural Marketing Service, USDA.

ACTION: Notice.

SUMMARY: The Agricultural Marketing Service (AMS) of the Department of Agriculture (USDA) is revising the United States Standards for Grades of Globe Artichokes. Specifically, AMS is revising the standards to add a U.S. No. 1 Long Stem grade along with an undersize tolerance of 5 percent in the standards. The new grade will have the same requirements as the U.S. No. 1 except that the stems must be smoothly cut to a minimum length of at least 8 inches, unless specified to a longer length in connection with the grade. AMS is further defining “fairly compact” by including a definition for “slightly spread” to mean, “the outer scales may be slightly open, but the inner scales at the tip of the artichoke must be closely folded into the bud.” The revisions would bring the standards for globe artichokes in line with current marketing practices, thereby improving their usefulness in serving the industry.

DATES: Effective Date: February 23, 2006.

FOR FURTHER INFORMATION CONTACT: Cheri L. Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The revised United States Standards for Grades of Globe Artichokes will be available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is revising the voluntary United States Standards for Grades of Globe Artichokes using procedures that appear in Part 36, Title 7 of the Code of Federal Regulations (7 CFR part 36).

Background

Prior to undertaking work to develop a proposed revision to the standard, AMS published a notice on April 26, 2005, in the Federal Register (70 FR 21391) soliciting comments on a possible revision to the United States Standards for Grades of Globe Artichokes. After receiving comments, a second notice was published in the September 12, 2005, Federal Register (70 FR 53774) proposing to revise the standards by adding a new grade “U.S. No. 1 Long Stem” and further defining “fairly compact” by including a definition for “slightly spread.” In response to this notice AMS received one comment from an industry group supporting the proposed revision. The comment is available by accessing the AMS, Fresh Products Branch Web site at: http://www.ams.usda.gov/fv/fpbdocketlist.htm.

Based on comments received and information gathered, AMS believes the revision to the standards will bring the standards for globe artichokes in line with current marketing practices and thereby improve their usefulness.

The official grade of a lot of globe artichokes covered by these standards is determined by the procedures set forth in the Regulations Governing Inspection, Certification, and Standards of Fresh Fruits, Vegetables and Other Products (Sec. 51.1 to 51.61).

The United States Standards for Grades of Globe Artichokes will become effective 30 days after the publication of this notice in the Federal Register.

Authority: 7 U.S.C. 1621-1627.

Dated: January 18, 2006.
Lloyd C. Day,
Administrator, Agricultural Marketing Service.

[FR Doc. E6-785 Filed 1-23-06; 8:45 am]

BILLING CODE 3410-02-P